COMMISSION ON CIVIL RIGHTS

Notice of Public Meeting of the Maryland Advisory Committee; Cancellation

AGENCY: Commission on Civil Rights.

ACTION: Notice; cancellation of meeting.

SUMMARY: The Commission on Civil Rights published a notice in the Federal Register concerning a meeting of the Maryland Advisory Committee. The meeting scheduled for Wednesday, May 21, 2021 at 4:00 p.m. (ET) is cancelled.

FOR FURTHER INFORMATION CONTACT: Evelyn Bohor, (202) 921-2212, ebohor@usccr.gov.

SUPPLEMENTARY INFORMATION: The notice is in the Federal Register of Monday, March 15, 2021, in FR Doc. 2021-05292, in the first and second columns of page 14304.

Dated: April 17, 2021.
David Mussatt,
Supervisory Chief, Regional Programs Unit.

[FR Doc. 2021-08323 Filed 4-21-21; 8:45 am]

BILLING CODE P